DEPARTMENT OF HEALTH AND HUMAN SERVICES

Meeting of the Tick-Borne Disease Working Group

AGENCY: Office of the Secretary, Office of the Assistant Secretary for Health, Office of HIV/AIDS and Infectious Disease Policy, Department of Health and Human Services.

ACTION: Notice.

SUMMARY: The Department of Health and Human Services (HHS) announces the sixth meeting of the Tick-Borne Disease Working Group (Working Group) on June 21, 2018, from 9:30 a.m. to 6:00 p.m., Eastern Time. The sixth meeting will be an on-line meeting held via webcast. The Working Group will focus on subcommittee findings and will review and provide input on the content of the five chapters that will be submitted into the Working Group Congressional Report.

DATES: The on-line meeting will be held on June 21, 2018, from 9:30 a.m. to 6:00 p.m. Eastern Time.

ADDRESSES: This will be an on-line meeting that is held via webcast. Members of the public may attend the meeting via webcast. Instructions for attending this virtual meeting will be posted prior to the meeting at: https://www.hhs.gov/ash/advisory-committees/tickbornedisease/index.html.

FOR FURTHER INFORMATION CONTACT: James Berger, Office of HIV/AIDS and Infectious Disease Policy, Office of the Assistant Secretary for Health, Department of Health and Human Services; via email at tickbornedisease@hhs.gov or by phone at 202-795-7697.

SUPPLEMENTARY INFORMATION: The Working Group invites public comment on issues related to the Working Group's charge. Comments may be provided over the phone during the meeting or in writing. Persons who wish to provide comments by phone should review directions at https://www.hhs.gov/ash/advisory-committees/tickbornedisease/meetings/index.html before submitting a request via email at tickbornedisease@hhs.gov on or before June 18, 2018. Phone comments will be limited to three minutes each to accommodate as many speakers as possible. A total of 30 minutes will be allocated to public comments. If more requests are received than can be accommodated, speakers will be randomly selected. The nature of the comments will not be considered in making this selection. Public comments may also be provided in writing. Individuals who would like to provide written comment should review directions at https://www.hhs.gov/ash/advisory-committees/tickbornedisease/meetings/index.html before sending their comments to tickbornedisease@hhs.gov on or before June 18, 2018.

During the meeting, the Working Group will review and discuss the content of the five draft chapters that will be part of the Report to Congress. Persons who wish to receive the draft document should email the tickbornedisease@hhs.gov and request a copy. The document will be available prior to the meeting.

Background and Authority: The Tick-Borne Disease Working Group was established on August 10, 2017, in accordance with section 2062 of the 21st Century Cures Act, and the Federal Advisory Committee Act, 5 U.S.C. App., as amended, to provide expertise and review all HHS, DoD and VA efforts related to tick-borne diseases to help ensure interagency coordination and minimize overlap, examine research priorities, and identify and address unmet needs. In addition, the Working Group is required to submit a report to the Secretary and Congress on their findings and any recommendations for improving the federal response to tick-borne disease prevention, treatment and research, and addressing gaps in those areas.

Dated: May 31, 2018.
James Berger,
Office of HIV/AIDS and Infectious Disease Policy, Designated Federal Officer, Tick-Borne Disease Working Group.

[FR Doc. 2018-12045 Filed 6-4-18; 8:45 am]

BILLING CODE 4150-28-P